DEPARTMENT OF COMMERCE

National Oceanic and Atmospheric Administration

National Integrated Drought Information System (NIDIS) Executive Council Meeting

AGENCY: Climate Program Office (CPO), Office of Oceanic and Atmospheric Research (OAR), National Oceanic and Atmospheric Administration (NOAA), Department of Commerce (DOC).

ACTION: Notice of open meeting.

SUMMARY: The National Integrated Drought Information System (NIDIS) Program Office will hold an organizational meeting of the NIDIS Executive Council on April 25, 2024.

DATES: The meeting will be held Thursday, April 25, 2024 from 8:30 a.m. EST to 3:30 p.m. EST. These times and the agenda topics are subject to change.

ADDRESSES: The meeting will be held at the Hall of the States, Room 233/235, 444 North Capitol St. NW, Washington, DC 20001.

FOR FURTHER INFORMATION CONTACT: Veva Deheza, NIDIS Executive Director, David Skaggs Research Center, Room GD102, 325 Broadway, Boulder, CO 80305. Email: Veva.Deheza@noaa.gov; or visit the NIDIS website at www.drought.gov.

SUPPLEMENTARY INFORMATION: The National Integrated Drought Information System (NIDIS) was established by Public Law 109-430 on December 20, 2006, and reauthorized by Public Law 113-86 on March 6, 2014 and Public Law 115-423 on January 7, 2019 , with a mandate to provide an effective drought early warning system for the United States; coordinate, and integrate as practicable, Federal research in support of a drought early warning system; and build upon existing forecasting and assessment programs and partnerships. See 15 U.S.C. 313d. The Public Law also calls for consultation with “relevant Federal, regional, State, tribal, and local government agencies, research institutions, and the private sector” in the development of NIDIS. 15 U.S.C. 313d(c). The NIDIS Executive Council provides the NIDIS Program Office with an opportunity to engage in individual consultation with senior resource officials from NIDIS's Federal partners, as well as leaders from state and local government, academia, nongovernmental organizations, and the private sector.

Status: This meeting will be open to public participation. Individuals interested in attending should register at https://cpaess.ucar.edu/meetings/nidis-executive-spring-council-meeting-2024. Please refer to this web page for the most up-to-date meeting times and agenda. Seating at the meeting will be available on a first-come, first-served basis.

Special Accommodations: This meeting is physically accessible to people with disabilities. Requests for special accommodations may be directed no later than 12:00 p.m. on April 19, 2024, to Elizabeth Ossowski, Program Manager, David Skaggs Research Center, Room GD102, 325 Broadway, Boulder, CO 80305; Email: Elizabeth.Ossowski@noaa.gov.

Matters to Be Considered: The meeting will include the following topics: (1) NIDIS implementation updates and 2024 priorities; (2) Executive Council member updates and 2024 priorities relevant to Drought, Climate Adaptation and Resilience, Water, Fire; (3) Regional Drought Early Warning Systems and Partnership Opportunities, as well as Research and Development; and (4) Managing for both too much and too little water across water resource management disciplines.

David Holst,
Chief Financial Officer/Administrative Officer, Office of Oceanic and Atmospheric Research, National Oceanic and Atmospheric Administration.

[FR Doc. 2024-08192 Filed 4-16-24; 8:45 am]

BILLING CODE 3510-KB-P